DEPARTMENT OF TRANSPORTATION

Coast Guard

33 CFR Part 165

[CGD08-02-016]

RIN 2115—AE84

Regulated Navigation Area; Lower MI River Mile 529.8 to 532.3, Greenville, Mississippi

AGENCY: Coast Guard, DOT.

ACTION: Notice of proposed rulemaking.

SUMMARY: The Coast Guard proposes to establish a regulated navigation area (RNA) for all waters of the Lower Mississippi River beginning at mile 529.8 and ending at mile 532.3 in Greenville, Mississippi. This RNA is needed to protect bridge construction personnel, equipment, and vessels from potential safety hazards associated with construction of the new U.S. Highway 82 Greenville Bridge at mile 530.8. Deviation from this rule would be prohibited unless specifically authorized by the Captain of the Port Memphis, or his designated representative.

DATES: Comments and related material must reach the Coast Guard on or before November 12, 2002.

ADDRESSES: You may mail comments and related material to U.S. Coast Guard Marine Safety Office Memphis, 200 Jefferson Avenue, Memphis, TN, 38103-2300. Marine Safety Office Memphis maintains the public docket for this rulemaking. Comments and material received from the public, as well as documents indicated in this preamble as being available in the docket, will become part of this docket and will be available for inspection or copying at U.S. Coast Guard Marine Safety Office Memphis between 8 a.m. and 4 p.m., Monday through Friday, except Federal holidays.

FOR FURTHER INFORMATION CONTACT: Lieutenant (LT) Malcolm McLellan, Marine Safety Detachment Greenville, at (662) 332-0964.

SUPPLEMENTARY INFORMATION:

Request for Comments

We encourage you to participate in this rulemaking by submitting comments and related material. If you do so, please include your name and address, identify the docket number for this rulemaking [CDG08-02-16], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to U.S. Coast Guard Marine Safety Office Memphis at the address under ADDRESSES explaining why one would be beneficial. If we determine that one would aid this rulemaking, we will hold one at a time and place announced by a later notice in the Federal Register.

Background and Purpose

Since 1972, the existing U.S. Highway 82 Greenville Bridge, mile 531.3 on the Lower Mississippi River, Greenville, Mississippi, has been struck more times than any other bridge on the Mississippi River. As a result, a new U.S. Highway 82 Greenville Bridge is currently being constructed further from the river bend at mile 530.8 on the Lower Mississippi River. Construction on the new bridge is expected to continue until August of 2005.

When construction began, broadcasts to mariners were made requesting mariners to navigate in the channel to avoid hazarding bridge construction activities, and to maintain contact with the on-scene work vessel when passing the bridge construction site. These requests were not effective.

Because of the safety concerns associated with the bridge construction and a second simultaneous construction project being conducted by the Army Corp of Engineers in the same vicinity, the Eighth Coast Guard District Commander established a temporary final rule creating an RNA for miles 529.8 to 537.0 extending the entire width of the river. This rule was published in the Federal Register on July 25, 2002 (67 FR 48550) and will expire on November 30, 2002.

With the completion of the Army Corp of Engineers project scheduled for November 30, 2002 some of the restrictions imposed by the existing temporary rule will no longer be required. The Coast Guard proposes to create a new regulated navigation area (RNA) to protect construction personnel, equipment, and vessels from potential safety hazards associated with the bridge construction for the duration of the project. The proposed rule would allow one-way traffic through the area 24 hours a day. It would also reduce the size of the area from 7.2 miles to 2.5 miles.

Discussion of Proposed Rule

In our proposed rule, a RNA would be established for all waters of the Lower Mississippi River from mile 529.8 to 532.3, extending the entire width of the river. This RNA would apply to all vessels except construction vessels. Construction vessels would be defined as those vessels engaged in the construction of the new U.S. Highway 82 Greenville Bridge.

Vessels would be prohibited from meeting or overtaking other vessels within the RNA. When downbound vessels reached mile 534.8, they would have to make a broadcast in the blind on VHF-FM channel 13 announcing their estimated time of arrival at mile 532.3. When upbound vessels reached mile 528.3, they would have to make a broadcast in the blind on VHF-FM channel 13 announcing their estimated time of arrival at mile 529.8. If a downbound vessel were already in the RNA, the upbound vessel would have to adjust its speed to avoid a meeting situation in the RNA.

Vessels would have to proceed at minimum safe speed while in the RNA.

All vessels would be required to contact the on-scene work vessel on VHF-FM channel 13, Monday through Saturday from 7 a.m. to 6 p.m., prior to entering the RNA. All vessels would have to continually monitor VHF-FM channel 13 on their radiotelephone while in and approaching the RNA.

No vessel would be allowed to transit between the caissons and the bank at mile 530.8.

Deviation from this rule would be prohibited unless specifically authorized by the Captain of the Port Memphis, or his designated representative. They can be contacted via VHF Channel 13 or 16, or via telephone at (901) 544-3941.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this proposed rule to be so minimal that a full Regulatory Evaluation under paragraph 10(e) of the regulatory policies and procedures of DOT is unnecessary. The impacts on routine navigation are expected to be minimal.

Representatives from the bridge construction project have met with local industry including the Lower Mississippi River Committee (LOMRC) to discuss ways to minimize the economic impact. LOMRC is an industry body, composed primarily of companies that transport commodities between Cairo, IL and New Orleans, LA. It represents carriers, facilities, and other maritime interests for the entire Lower Mississippi River. Economic impact should be minimal because vessel traffic would be allowed to transit the RNA 24 hours a day. Upbound vessels may experience short delays while waiting for downbound vessels to complete their transit of the RNA but would be allowed to continue their transit afterwards.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This rule would affect the following entities, some of which may be small entities: the owners or operators of vessels intending to transit the Lower Mississippi River from mile 529.8 to mile 532.3. This RNA would not have a significant economic impact on a substantial number of small entities for the reasons enumerated under the Regulatory Evaluation above.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact LT Malcolm McLellan, Marine Safety Office Memphis, at (662) 332-0964.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this proposed rule and concluded that, under figure 2-1, paragraph (34)(g) of Commandant Instruction M16475.1D, this rule is categorically excluded from further environmental documentation because this rule is not expected to result in any significant adverse environmental impact as described in the National Environmental Policy Act of 1969 (NEPA). A “Categorical Exclusion Determination” is available for inspection or copying where indicated under ADDRESSES.

List of Subjects in 33 CFR Part 165

Harbors, Marine safety, Navigation (Water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46.

2. A new § 165.816 is added to read as follows:

§ 165.816 Regulated Navigation Area; Lower Mississippi River Mile 529.8 to 532.3, Greenville, Mississippi.

(a) Definition. Construction vessels are defined as those vessels engaged in construction of the new U.S. Highway 82 Greenville Bridge.

(b) Location. The following area is a regulated navigation area (RNA): the waters of the Lower Mississippi River from mile 529.8 to mile 532.3, extending the entire width of the river.

(c) Regulations. (1) Vessels are prohibited from meeting or overtaking other vessels within the RNA.

(i) When downbound vessels reach mile 534.8, they shall make a broadcast in the blind on VHF-FM channel 13 announcing their estimated time of arrival at mile 532.3.

(ii) When upbound vessels reach mile 528.3, they shall make a broadcast in the blind on VHF-FM channel 13 announcing their estimated time of arrival at mile 529.8. If a downbound vessel is already in the RNA, the upbound vessel shall adjust its speed so as to avoid a meeting situation in the RNA.

(2) Vessels shall proceed at minimum safe speed while in the RNA.

(3) Vessels shall contact the on-scene work vessel, Monday through Saturday from 7 a.m. to 6 p.m., prior to entering the RNA. All vessels shall continually monitor VHF-FM channel 13 on their radiotelephone while in and approaching the RNA.

(4) No vessel may transit between the caissons and the bank at mile 530.8.

(5) Deviation from this rule is prohibited unless specifically authorized by the Captain of the Port Memphis, or his designated representative. They may be contacted via VHF Channel 13 or 16, or via telephone at (901) 544-3941.

Dated: September 4, 2002.
Roy J. Casto,
Rear Admiral, U.S. Coast Guard, Commander, Eighth Coast Guard District.

[FR Doc. 02-23404 Filed 9-12-02; 8:45 am]

BILLING CODE 4910-15-P